DEPARTMENT OF COMMERCE

National Institute of Standards and Technology

Post-Disaster Research Methods Meeting

AGENCY: National Institute of Standards and Technology, Department of Commerce.

ACTION: Notice of open meeting.

SUMMARY: The National Institute of Standards and Technology (NIST) and the National Center for Disaster Medicine and Public Health (NCDMPH) will hold an open meeting on Thursday, September 6, 2018 from 8:30 a.m. to 5:00 p.m. Eastern Time and on Friday, September 7, 2018 from 8:30 a.m. to 12:00 p.m. Eastern Time. The primary purpose of this meeting is to discuss the state-of-the-practice in post-disaster field data collection methods, including sampling methodologies across multiple disciplines. The agenda will be posted on the NIST website at https://www.nist.gov/topics/disaster-failure-studies/national-construction-safety-team-ncst/hurricane-maria-ncst.

DATES: The meeting will be held on Thursday, September 6, 2018 from 8:30 a.m. to 5:00 p.m. Eastern Time and on Friday, September 7, 2018 from 8:30 a.m. to 12:00 p.m. Eastern Time.

ADDRESSES: The meeting will be held in person and via teleconference at the Henry M. Jackson Foundation Headquarters, 6720A Rockledge Drive, Bethesda, Maryland 20817. For instructions on how to participate in the meeting, please see the SUPPLEMENTARY INFORMATION section of this notice.

FOR FURTHER INFORMATION CONTACT: Melissa Banner, Administrative Office Assistant, Community Resilience Program, Engineering Laboratory, NIST, 100 Bureau Drive, Mail Stop 8615, Gaithersburg, Maryland 20899-8604. Ms. Banner's email address is Melissa.Banner@nist.gov; and her phone number is (301) 975-8912.

SUPPLEMENTARY INFORMATION: The National Institute of Standards and Technology (NIST) and the National Center for Disaster Medicine and Public Health (NCDMPH) will hold an open meeting on Thursday, September 6, 2018 from 8:30 a.m. to 5:00 p.m. Eastern Time and on Friday, September 7, 2018 from 8:30 a.m. to 12:00 p.m. Eastern Time. The primary purpose of this meeting is to discuss the state-of-the-practice in post-disaster field data collection methods including sampling methodologies across multiple disciplines. The agenda will be posted on the NIST website at https://www.nist.gov/topics/disaster-failure-studies/national-construction-safety-team-ncst/hurricane-maria-ncst.

To participate in the meeting, please submit your first and last name, email address, and phone number to Melissa Banner at Melissa.Banner@nist.gov or (301) 975-8912. After pre-registering, participants will be provided with detailed instructions on how to join the meeting in person or remotely. Physical space at this meeting will be limited; 20 members of the public are anticipated to be able to attend in person and will be selected on a first-come, first-served basis. Others may attend via teleconference. Anyone wishing to attend this meeting in person or via teleconference must register by 5:00 p.m. Eastern Time, Tuesday, September 4, 2018, to attend. Please submit your full name, email address, and phone number to Melissa Banner at Melissa.Banner@nist.gov; her phone number is (301) 975-8912.

Phillip A. Singerman,
Associate Director for Innovation and Industry Services.

[FR Doc. 2018-19116 Filed 8-31-18; 8:45 am]

BILLING CODE 3510-13-P